DEPARTMENT OF AGRICULTURE

Agricultural Research Service

Notice of Appointment of the National Genetic Resources Advisory Council

AGENCY: Office of the Under Secretary, Research, Education, and Economics, USDA.

ACTION: Notification of appointment of the National Genetic Resources Advisory Council.

SUMMARY: The Office of the Under Secretary, Research, Education, and Economics of the Department of Agriculture, in accordance with the Federal Advisory Committee Act, 5 U.S.C. App., announces members appointed to the National Genetic Resources Advisory Council. Five members were appointed from nominations to replace five members whose terms had expired. Four members continue for the remaining two years of their four-year appointment. The following appointments to the National Genetic Resources Advisory Council have been made:

Roni Sue DeNise, Department of Animal Science, University of Arizona, Tucson, AZ, David R. MacKenzie, Executive Director Northeastern Regional Association of State, Agricultural Experiment Stations, College Park, MD, Ru Nguyen, Entomologist, Florida Department of Agriculture, Gainesville, FL, Antonio Sotomayor-Rios, Agronomist, University of Puerto Rico, Mayaguez, PR, Stoney J. Wright, Agronomist, Alaska Department of Natural Resources, Palmer, AK.

The following members will continue on the Advisory Council: Neil D. Hamilton, serving as Chair, Agricultural Law Center, Drake University, Des Moines, IA, Jennie Hunter-Cevera, Maryland Biotechnology Institute, College Park, MD, Charles A. Panton, North Carolina A&T State University, Greensboro, NC, Charles G. Sattler, National Association of Animal Breeders, Columbia, MO.

Council members will serve four-year terms. In the event of a vacancy, the Secretary will appoint a new member as appropriate and subject to the provisions of the Federal Advisory Committee Act. The duties of the Council are solely advisory to the Secretary and the Director of the National Genetic Resources Program on matters concerning the National Genetic Resources Program of the USDA.

Council members will serve without pay. Reimbursement of travel expenses and per diem costs shall be made to members who would be unable to attend council meetings without such reimbursement.

FOR FURTHER INFORMATION CONTACT: Questions should be e-mailed to pbk@ars.usda.gov, faxed to 301-504-6191, or telephoned to 301-504-5541; all mailed correspondence should be sent to Peter Bretting, Designated Federal Official, USDA-ARS, Room 4-2212, George Washington Carver Center, 5601 Sunnyside Avenue, Beltsville, MD 20705-5139.

Dated: August 25, 2000.
Peter Bretting,
Assistant Administrator for Genetic Resources, USDA-ARS.

[FR Doc. 00-22501 Filed 8-31-00; 8:45 am]

BILLING CODE 3410-03-P